DEPARTMENT OF COMMERCE

International Trade Administration

[A-533-843]

Certain Lined Paper Products From India: Preliminary Results of Antidumping Duty Administrative Review; Rescission of Administrative Review, in Part; and Preliminary Determination of No Shipments; 2020-2021

AGENCY: Enforcement and Compliance, International Trade Administration, Department of Commerce.

SUMMARY: The U.S. Department of Commerce (Commerce) is conducting an administrative review of the antidumping duty order on certain lined paper products from India, covering the period of review (POR), September 1, 2020, through August 31, 2021. We preliminarily find that Cellpage Ventures Private Limited (Cellpage) made sales of subject merchandise at less than normal value during the POR and Navneet Education Ltd. (Navneet) did not. Finally, we are also rescinding this review with respect to four companies. We invite interested parties to comment on these preliminary results.

DATES: Applicable October 6, 2022.

FOR FURTHER INFORMATION CONTACT: Samuel Brummitt or Jolanta Lawska, AD/CVD Operations, Office III, Enforcement and Compliance, International Trade Administration, U.S. Department of Commerce, 1401 Constitution Avenue NW, Washington, DC 20230; telephone: (202) 482-7851 or (202) 482-8362, respectively.

SUPPLEMENTARY INFORMATION:

Background

On September 28, 2006, Commerce published the Order in the Federal Register.¹ On November 5, 2021, pursuant to section 751(a)(1) of the Tariff Act of 1930, as amended (the Act), Commerce initiated an administrative review of the Order.² On May 2, 2022, we extended the deadline for the preliminary results to September 30, 2022.³

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Order).

² See Initiation of Antidumping and Countervailing Duty Administrative Reviews, 86 FR 61121 (November 5, 2021) (Initiation Notice).

³ See Memorandum, “Certain Lined Paper Products from India: Extension of Deadline for Preliminary Results of Antidumping Duty Administrative Review; 2020-2021,” dated May 2, 2022.

Commerce initiated this administrative review covering the following seventeen companies: Cellpage; Dinakar Process Private Limited (Dinakar); Goldenpalm Manufacturers PVT Limited; ITC Limited-Education and Stationery Products Business; JC Stationery (P) Ltd (JC Stationery); Kokuyo Riddhi Paper Products Pvt. Ltd. (Kokuyo); Lodha Offset Limited (Lodha); Lotus Global Private Limited (Lotus Global); M/s. Bhaskar Paper Products (Bhaskar); Magic International Pvt. Ltd. (Magic); Marisa International; Navneet; Pioneer Stationery Private Limited (Pioneer); PP Bafna Ventures Private Limited; SAB International; SGM Paper Products (SGM); and Super Impex.⁴ On December 20, 2021, the Association of American School Paper Suppliers and its individual members (the petitioners), timely withdrew their request for review of Kokuyo, Lodha, Pioneer, SAB International, SGM, and Super Impex.⁵ No other parties requested a review of Kokuyo, Lodha, SAB International, and Super Impex. Pioneer and SGM requested an administrative review with respect to themselves.⁶ As detailed below, we are rescinding the review, in part, with respect to Kokuyo, Lodha, SAB International, and Super Impex. This review covers two mandatory respondents, Cellpage and Navneet. The other eleven companies were not selected for individual examination and remain subject to this administrative review.

⁴ See Initiation Notice, 86 FR at 61123.

⁵ See Petitioners' Letter, “Partial Withdrawal of Request for Administrative Review,” dated December 20, 2021 (Petitioners' Withdrawal of Request for Review).

⁶ See Pioneer's Letter, “Request for Administrative Review of Anti-Dumping Duty of Pioneer Stationery Private Limited,” dated September 30, 2021 (Pioneer's Request for Review); see also SGM's Letter, “Request for Administrative Review of Anti-Dumping Duty of SGM Paper Products,” dated September 30, 2021 (SGM's Request for Review).

For a complete description of the events that followed the initiation of this administrative review, see the Preliminary Decision Memorandum.⁷ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁷ See Memorandum, “Decision Memorandum for the Preliminary Results of Antidumping Duty Administrative Review: Certain Lined Paper Products from India; 2020-2021,” dated concurrently with, and hereby adopted by, this notice (Preliminary Decision Memorandum).

Scope of the Order

The merchandise covered by the Order is certain lined paper products. The merchandise subject to this order is currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS subheadings are provided for convenience and customs purposes, the written product description remains dispositive. For a full description of the scope of the Order, see the Preliminary Decision Memorandum.⁸

⁸ Id.

Partial Rescission of Review

Pursuant to 19 CFR 351.213(d)(1), Commerce will rescind an administrative review, in whole or in part, if a party who requested the review withdraws the request within 90 days of the date of publication of notice of initiation of the requested review. As noted above, on December 20, 2021, the petitioners timely withdrew their request for reviews of Kokuyo, Lodha, Pioneer, SAB International, SGM, and Super Impex.⁹ Because there are still active review requests for Pioneer and SGM, we are not rescinding the review with respect to these companies.¹⁰ However, because there was a timely withdrawal of requests for review and because there are no other active requests for review, we are rescinding this review, in part, with respect to Kokuyo, Lodha, SAB International, and Super Impex, pursuant to 19 CFR 351.213(d)(1) and (4).

⁹ See Petitioners' Withdrawal of Request for Review.

¹⁰ See Pioneer's Request for Review; and SGM's Request for Review.

Preliminary Determination of No Shipments

On December 3, 2021, Bhaskar, Dinakar, and JC Stationery submitted no-shipment certifications.¹¹ On November 22, 2021, Lodha submitted a response to Commerce's quantity and value questionnaire which indicated that the company had no shipments during the POR.¹² To confirm the no-shipment claims by Bhaskar, Dinakar, JC Stationery, and Lodha, on December 16, 2021, Commerce issued no-shipment inquiries to U.S. Customs and Border Protection (CBP).¹³ CBP reported that it had no information to contradict the no-shipment claims of Bhaskar, Dinakar, JC Stationery, and Lodha during the POR.¹⁴

¹¹ See Bhaskar's Letter, “Certification of No Sales, Shipments, or Entries,” dated December 3, 2021; see also Dinakar's Letter, “Certification of No Sales, Shipments, or Entries,” dated December 3, 2021; and JC Stationery's Letter, “Certification of No Sales, Shipments, or Entries,” dated December 3, 2021.

¹² See Lodha's Letter, “Response to Quantity & Value Questionnaire,” dated November 22, 2021.

¹³ See Memorandum, “No Shipment Inquiries,” dated December 17, 2021.

¹⁴ See Memorandum, “CBP Response to No Shipment Inquiries,” dated December 20, 2021.

Given that Bhaskar, Dinakar, JC Stationery, and Lodha reported that they made no shipments of subject merchandise to the United States during the POR, and there is no information calling these companies' claims into question, we preliminarily determine that Bhaskar, Dinakar, JC Stationery, and Lodha did not have any reviewable transactions during the POR. As noted above, on December 20, 2021, the petitioners timely withdrew their request for a review of Lodha, and because no other parties requested a review of Lodha, we are rescinding the review with respect to Lodha. With respect to Bhaskar, Dinakar, and JC Stationery, consistent with Commerce's practice, we will not rescind the review regarding these companies but, rather, will complete the review and issue instructions to CBP based on the final results of this review.¹⁵

¹⁵ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014) (citing Antidumping and Countervailing Duty Proceedings: Assessment of Antidumping Duties, 68 FR 23954 (May 6, 2003) (Automatic Assessment Clarification)).

Methodology

Commerce is conducting this review in accordance with section 751(a)(2) of the Act. Export price is calculated in accordance with section 772 of the Act. Normal value is calculated in accordance with section 773 of the Act. For a full description of the methodology underlying our preliminary results, see the Preliminary Decision Memorandum. A list of the topics discussed in the Preliminary Decision Memorandum is included as the appendix to this notice.

Adverse Facts Available

Sections 776(a)(1) and 776(a)(2) of the Act provide that Commerce shall, subject to section 782(d) of the Act, apply “facts otherwise available” if necessary information is not available on the record or if any other person: (A) withholds information requested by Commerce; (B) fails to provide such information by the deadlines for submission of the information, or in the form and manner requested, subject to subsections (c)(1) and (e) of section 782 of the Act; (C) significantly impedes a proceeding; or (D) provides such information but the information cannot be verified as provided in section 782(i) of the Act. Pursuant to sections 776(a) and (b) of the Act, Commerce has preliminarily relied upon facts otherwise available with adverse inferences to determine the estimated weighted-average dumping margin for Magic and Marisa International because they did not submit timely responses to Commerce's quantity and value questionnaire. We are preliminarily assigning to Magic and Marisa International, as adverse facts available, a dumping margin of 215.93 percent. Commerce is not required to corroborate any dumping margin applied in a separate segment of the same proceeding.¹⁶ Because the 215.93 percent rate was applied in a separate segment of this proceeding,¹⁷ Commerce does not need to corroborate the rate in this review. For a complete explanation of the analysis underlying the application of adverse facts available, see the Preliminary Decision Memorandum.

¹⁶ See section 776(c)(2) of the Act.

¹⁷ See Certain Lined Paper Products from India: Final Results of Antidumping Duty Administrative Review and Final Determination of No Shipments; 2019- 2020, 87 FR 17989, 17990 (March 29, 2022).

Rate for Non-Selected Respondents

For the rate for companies not selected for individual examination in an administrative review, generally, Commerce looks for guidance in administrative reviews to section 735(c)(5) of the Act, which provides instructions for calculating the all-others rate in a less-than-fair-value investigation. Under section 735(c)(5)(A) of the Act, the all-others rate is normally “an amount equal to the weighted-average of the estimated weighted-average dumping margins established for exporters and producers individually investigated, excluding any zero or de minimis margins, and any margins determined entirely {on the basis of facts available}.” Where the dumping margins for individually examined respondents are all zero, de minimis, or based entirely on facts available, section 735(c)(5)(B) of the Act provides that Commerce may use “any reasonable method to establish the estimated all-others rate for exporters and producers not individually investigated, including averaging the estimated weighted-average dumping margins determined for the exporters and producers individually investigated.”

In this segment of the proceeding, we calculated a margin for Cellpage that was not zero, de minimis, or based on facts available. Accordingly, we have preliminarily applied the margins for Cellpage to the non-individually examined respondents.

Preliminary Results of Review

Commerce preliminarily determines that the following weighted-average dumping margins exist for the period September 1, 2020, through August 31, 2021:

Producer/exporter | Weighted-average dumping margin (percent)
Cellpage Ventures Private Limited | 11.43
Navneet Education Ltd | 0.00
Goldenpalm Manufacturers PVT Limited | 11.43
ITC Limited-Education and Stationary Products Business | 11.43
Lotus Global Private Limited | 11.43
Pioneer Stationery Pvt. Ltd | 11.43
PP Bafna Ventures Private Limited | 11.43
SGM Paper Products | 11.43
Magic International Pvt. Ltd | 215.93
Marisa International | 215.93

Assessment Rates

Upon issuance of the final results, Commerce shall determine, and CBP shall assess, antidumping duties on all appropriate entries covered by this review. If a respondent's weighted-average dumping margin is not zero or de minimis (i.e., less than 0.5 percent) in the final results of this review, we will calculate importer-specific ad valorem antidumping duty assessment rates based on the ratio of the total amount of dumping calculated for an importer's examined sales and the total entered value of such sales in accordance with 19 CFR 351.212(b)(1). Where either the respondent's weighted-average dumping margin is zero or de minimis within the meaning of 19 CFR 351.106(c), or an importer-specific rate is zero or de minimis, we will instruct CBP to liquidate the appropriate entries without regard to antidumping duties.

Pursuant to Commerce's Automatic Assessment Clarification, for entries of subject merchandise during the POR produced by a respondent for which it did not know its merchandise was destined for the United States, Commerce will instruct CBP to liquidate unreviewed entries at the all-others rate if there is no rate for the intermediate company(ies) involved in the transaction.¹⁸

¹⁸ See Automatic Assessment Clarification.

Should we continue to apply facts available with an adverse inference to Magic and Marisa International in the final results, we will instruct CBP to apply an assessment rate equal to the dumping margin of 215.93 percent, as indicated above, to all entries produced and/or exported by Magic and Marisa International. The assessment rate for antidumping duties for each of the companies not selected for individual examination will be equal to the weighted-average dumping margin identified in the final results of review.

We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the notice of final results of this review for all shipments of subject merchandise entered, or withdrawn from warehouse, for consumption on or after the publication date of the final results of this review, as provided by section 751(a)(2)(C) of the Act: (1) the cash deposit rate for respondent noted above will be the rates established in the final results of this review; (2) for merchandise exported by producers or exporters not covered in this review but covered in a prior segment of the proceeding, the cash deposit rate will continue to be the company-specific rate published for the most recently completed segment of this proceeding; (3) if the exporter is not a firm covered in this review, a prior review, or the original investigation, but the producer is, then the cash deposit rate will be the rate established for the most recently completed segment of this proceeding for the producer of the subject merchandise; and (4) the cash deposit rate for all other producers or exporters will continue to be 3.91 percent, the all-others rate established in the investigation.¹⁹ These cash deposit requirements, when imposed, shall remain in effect until further notice.

¹⁹ See Order, 71 FR 56952.

Verification

On February 14, 2022, the petitioners requested that Commerce conduct verification of Navneet's responses.²⁰ Accordingly, as provided in section 782(i)(3) of the Act, Commerce intends to verify the information relied upon in determining its final results.

²⁰ See Petitioners' Letter, “Request for Verification,” dated February 14, 2022.

Disclosure and Public Comment

We will disclose to parties to the proceeding any calculations performed in connection with these preliminary results of review within five days after the date of publication of this notice.²¹ Interested parties may submit case briefs not later than seven days after the date on which the last verification report is issued in this administrative review. Rebuttal briefs, limited to issues raised in the case briefs, may be filed no later than seven days after the date for filing case briefs.²² Parties who submit case briefs or rebuttal briefs in this proceeding are encouraged to submit with each argument: (1) a statement of the issue; (2) a brief summary of the argument; and (3) a table of authorities.²³ All briefs must be filed electronically using ACCESS. An electronically filed document must be received successfully in its entirety by the established deadline. Note that Commerce has temporarily modified certain of its requirements for serving documents containing business proprietary information, until further notice.²⁴

²¹ See 19 CFR 351.224(b).

²² See 19 CFR 351.309(d)(1); see also Temporary Rule Modifying AD/CVD Service Requirements Due to COVID-19; Extension of Effective Period, 85 FR 41363 (July 10, 2020) (Temporary Rule).

²³ See 19 CFR 351.309(c)(2) and (d)(2) and 19 CFR 351.303 (for general filing requirements).

²⁴ See Temporary Rule.

Interested parties who wish to request a hearing, limited to issues raised in the case and rebuttal briefs, must submit a written request to the Assistant Secretary for Enforcement and Compliance, within 30 days after the date of publication of this notice.²⁵ Requests should contain: (1) the party's name, address, and telephone number; (2) the number of participants; and (3) a list of issues to be discussed. Issues raised in the hearing will be limited to those raised in the respective case and rebuttal briefs. If a request for a hearing is made, Commerce intends to hold the hearing at a time and date to be determined. Parties should confirm by telephone the date, time, and location of the hearing two days before the scheduled date.

²⁵ See 19 CFR 351.310(c).

We intend to issue the final results of this administrative review, including the results of our analysis of the issues raised in any written briefs, not later than 120 days after the date of publication of this notice, pursuant to section 751(a)(3)(A) of the Act.

Notification to Importers

This notice serves as a preliminary reminder to importers of their responsibility under 19 CFR 351.402(f)(2) to file a certificate regarding the reimbursement of antidumping duties and/or countervailing duties prior to liquidation of the relevant entries during this review period. Failure to comply with this requirement could result in the presumption that reimbursement of antidumping and/or countervailing duties occurred and the subsequent assessment of double antidumping duties.

Notification to Interested Parties

We are issuing and publishing these preliminary results of review in accordance with sections 751(a)(1) and 777(i)(1) of the Act, and 19 CFR 351.213(h)(1).

Dated: September 30, 2022.
Lisa W. Wang,
Assistant Secretary for Enforcement and Compliance.

Appendix—List of Topics Discussed in the Preliminary Decision Memorandum

I. Summary

II. Background

III. Scope of the Order

IV. Partial Rescission of Administrative Review

V. Preliminary Determination of No Shipments

VI. Companies Not Selected for Individual Examination

VII. Application of Facts Available and Adverse Inference

VIII. Discussion of the Methodology

IX. Currency Conversion

X. Recommendation

[FR Doc. 2022-21771 Filed 10-5-22; 8:45 am]

BILLING CODE 3510-DS-P